DEPARTMENT OF THE INTERIOR

Bureau of Reclamation

[Nevada, INT-DES 01-43]

Implementation Agreement, Inadvertent Overrun and Payback Policy and Related Federal Actions, Colorado River in the Lower Basin

AGENCY: Bureau of Reclamation, Interior.

ACTION: Notice of availability of and public hearing for a draft environmental impact statement (DEIS).

SUMMARY: Pursuant to the National Environmental Policy Act (NEPA) of 1969, as amended, and the Council on Environmental Quality's Regulations for Implementing the Procedural Provisions of NEPA, the Bureau of Reclamation (Reclamation) has issued a DEIS on the proposed execution of an Implementation Agreement (IA) that would commit the Secretary of the Interior (Secretary) to make Colorado River water deliveries in accordance with the terms and conditions of the IA to enable certain southern California water agencies to implement the proposed Quantification Settlement Agreement (QSA). (The QSA is an agreement in principle among several southern California water agencies. It establishes a framework of conservation measures and water transfers within southern California for up to 75 years. It provides a substantial mechanism for California to reduce its diversions of Colorado River water in normal years to its 4.4 million acre-feet per year apportionment.) The proposed Federal action includes the following components: Execution of an IA, wherein the Secretary agrees to changes in the amount and/or location of deliveries of Colorado River water that are necessary to implement the QSA; adoption of an Inadvertent Overrun and Payback Policy (IOP), which establishes requirements for payback of inadvertent overuse of Colorado River water by Colorado River water users in Arizona, California, and Nevada; and implementation of biological conservation measures to offset potential impacts from the proposed action that could occur to federally listed fish and wildlife species. Information on public hearings may be found below in the DATES section.

DATES: A 60-day public review and comment period begins with the filing of the draft EIS with the Environmental Protection Agency. Written comments must be received no later than March 12, 2002 [see ADDRESSES, below].

Public hearings are scheduled to be held to receive written or verbal comments about the DEIS from interested organizations and individuals, on the adequacy with which the EIS identifies and describes the potential impacts associated with approving and implementing the proposed Federal action. The hearings will be held at the following times and locations:

• February 5, 2002, VFW Hall, 148 N. First St., Blythe, California, 6:30-9:30 p.m.

• February 6, 2002, Henderson Convention Center, 200 S. Water St., Henderson, Nevada, 2:00-5:00 p.m.

• February 7, 2002, Marriott Hotel (Downtown), 333 S. Figueroa St., Los Angeles, California, 2:00-5:00 p.m.

ADDRESSES: Send written comments to Mr. Bruce Ellis, Chief, Environmental Resources Management Division, Bureau of Reclamation, Phoenix Area Office (PXAO-1500), PO Box 81169, Phoenix, AZ 85069-1169; fax number (602) 216-4006.

A copy of the draft EIS is available upon request from Ms. Janice Kjesbo, Bureau of Reclamation, Phoenix Area Office (PXAO-1500), PO Box 81169, Phoenix, AZ 85069-1169, telephone (602) 216-3864, faxogram (602) 216-4006. A copy of the draft EIS is also available for public inspection and review at the libraries listed under Supplementary Information below.

FOR FURTHER INFORMATION CONTACT: Questions regarding the draft EIS should be directed to Mr. Ellis, at the address provided above, telephone (602) 216-3854.

SUPPLEMENTARY INFORMATION: The Secretary, pursuant to the Boulder Canyon Project Act of 1928 and Arizona v. California 1964 Supreme Court Decree (376 U.S. 340), proposes to take Federal actions necessary to support the implementation of the QSA. The purpose of the Federal action is to facilitate implementation of the QSA, which incorporates contractual agreements necessary for California to reduce its use of Colorado River water. The need for the Federal action is to assist California's efforts to reduce its use of Colorado River water to its 4.4 million acre-feet apportionment in a normal year. This reduction in California's use of Colorado River water would benefit the entire Colorado River Basin.

The IA, IOP, and Related Federal Actions DEIS describes the potential environmental impacts of the three components that make up the proposed Federal action. Because the purpose of the proposed action is to provide Federal approval of an agreement negotiated among the California parties, no other action alternatives to the IA are considered in the DEIS. Similarly, the biological conservation measures proposed to be implemented under the proposed action relate specifically to the water transfers specified in the IA and QSA. These measures were developed and agreed to by Reclamation and the U.S. Fish and Wildlife Service (FWS) in response to an August 2000 Reclamation Biological Assessment, and were incorporated into a FWS January 2001 Biological Opinion; no alternatives to the biological conservation measures are considered in the DEIS. With regard to the IOP, in response to scoping comments received, Reclamation developed an alternative that would eliminate the forgiveness of payment aspect of the proposed policy. This alternative has been evaluated and is described in the DEIS.

Copies of the draft EIS are available for public inspection and review at the following locations:

• Department of the Interior, Natural Resources Library, 1849 C St., NW, Washington, DC 20240

• Bureau of Reclamation, Denver Office Library, Building 67, Room 167, Denver Federal Center, 6th and Kipling, Denver, CO 80225

• Bureau of Reclamation, Lower Colorado Regional Office, Nevada Highway and Park St., Boulder City, NV 89006

• Bureau of Reclamation, Phoenix Area Office, 2222 W. Dunlap Ave., Suite 100, Phoenix, AZ 85021

• Bureau of Reclamation, Southern California Area Office, 27710 Jefferson Ave., Suite 201, Temecula, CA 92590-2628

• Bureau of Reclamation, Yuma Area Office, 7301 Calle Agua Salada, Yuma, AZ 85364-9763

• Bureau of Reclamation, Upper Colorado Regional Office, 125 S. State St., Salt Lake City, UT 84138-1102

• Lake Havasu City Library, 1787 McCulloch Blvd. North, Lake Havasu City, AZ 86403

• Mohave County Library, 1170 Hancock Rd., Bullhead City, AZ 86442

• Parker Public Library, 1001 S. Navajo Ave., Parker, AZ 85344

• Phoenix Public Library (Burton Barr Central), 1221 N. Central Ave., AZ 85004

• Yuma County Library, 350 S. 3rd Ave., Yuma, AZ 85364

• Los Angeles Central Library, 630 W. 5th St., Los Angeles, CA 90071

• Palo Verde Valley Library, 125 W. Canslor Way, Blythe, CA 92225

• San Bernardino County Library, 1111 Bailey Ave., Needles, CA 92363

• San Diego Central Library, 820 E St., San Diego, CA 92101

• Henderson District Public Library, 280 South Water St., Henderson, NV 89015

• Salt Lake City Public Library, 209 E 500 S, Salt Lake City, UT 84111

Written comments received by Reclamation become part of the public record associated with this action. Accordingly, Reclamation makes these comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: December 28, 2001.
Kenneth D. Naser,
Director, Office of Environmental, Policy and Compliance.

[FR Doc. 02-689 Filed 1-14-02; 8:45 am]

BILLING CODE 4310-MN-P